DEPARTMENT OF LABOR

Employment and Training Administration

[TA-W-38,695]

Drummond Company, Inc., Jasper, Alabama; Notice of Termination of Investigation

Pursuant to section 221 of the Trade Act of 1974, an investigation was initiated on February 20, 2001, in response to a worker petition which was filed on behalf of workers at Drummond Company, Inc., Jasper, Alabama.

The Department of Labor has determined that the petition is invalid. Under the Trade Act of 1974, a petition may be filed by a group of three or more workers in an appropriate subdivision of a firm, by a company official, or by their union or other duly authorized representative. The petitioners are not employees of Drummond Company, Jasper, Alabama. The petition was signed by three petitioners who are not authorized to file on behalf of workers of the company. Consequently, further investigation in this case would serve no purpose, and the investigation has been terminated.

Signed in Washington, DC this 12th day of April, 2001.
Linda G. Poole,
Certifying Officer, Division of Trade Adjustment Assistance.

[FR Doc. 01-10944 Filed 5-1-01; 8:45 am]

BILLING CODE 4510-30-M